Title 3—

The President

Memorandum of November 26, 2002

Designation of Officers of the Federal Emergency Management Agency To Act as Director of the Federal Emergency Management Agency

Memorandum for the Director of the Federal Emergency Management Agency

By the authority vested in me as President under the Constitution and laws of the United States of America and pursuant to the Federal Vacancies Reform Act of 1998, 5 U.S.C. 3345 et seq., I hereby order that:

Section 1. Order of Succession.

During any period when both the Director of the Federal Emergency Management Agency (Director) and the Deputy Director of the Federal Emergency Management Agency (Deputy Director) have died, resigned, or otherwise become unable to perform the functions and duties of the office of Director, the following officers of the Federal Emergency Management Agency, in the order listed, shall perform the functions and duties of the office of Director, if they are eligible to act as Director under the provisions of the Federal Vacancies Reform Act of 1998, until such time as the Director or Deputy Director is able to perform the functions and duties of the office of Director:

Administrator of the United States Fire Administration;

Administrator of the Federal Insurance and Mitigation Administration;

Assistant Director, Administration and Resource Planning Directorate; and

Regional Director, Region IV.

Section 2. Exceptions.

(a)

No individual who is serving in an office listed in section 1 in an acting capacity, by virtue of so serving, shall act as Director pursuant to this memorandum.

(b)

Not withstanding the provisions of this memorandum, the President retains discretion, to the extent permitted by the Federal Vacancies Reform Act of 1998, 5 U.S.C. 3345-3349d, to depart from this order in designating an acting Director.

Section 3. Termination.

This memorandum shall terminate immediately upon the transfer of the authorities, functions, personnel, and assets of the Federal Emergency Management Agency to the Department of Homeland Security.

Section 4. Publication.

The Director is authorized and directed to publish this memorandum in the Federal Register.

B

THE WHITE HOUSE,

Washington, November 26, 2002.

[FR Doc. 02-33047

Filed 12-27-02; 8:45 am]

Billing code 6718-01-M